DEPARTMENT OF HEALTH AND HUMAN SERVICES

Food and Drug Administration

Drug Safety and Risk Management Advisory Committee; Amendment of Notice

AGENCY: Food and Drug Administration, HHS.

ACTION: Notice.

The Food and Drug Administration (FDA) is announcing an amendment to the notice of meeting of the Drug Safety and Risk Management Advisory Committee. This meeting was announced in the Federal Register of April 14, 2005 (70 FR 19763). The amendment is being made to reflect a change in the Date and Time portion of the document. The start time for each day of the meeting will be changed. There are no other changes.

FOR FURTHER INFORMATION CONTACT: Shalini Jain, Center for Drug Evaluation and Research (HFD-21), Food and Drug Administration, 5600 Fishers Lane (for express delivery, 5630 Fishers Lane, rm. 1093), Rockville, MD 20857, 301-827-7001, FAX: 301-827-6776, e-mail: jains@cder.fda.gov, or FDA Advisory Committee Information Line, 1-800-741-8138 (301-443-0572 in the Washington DC area), code 3014512535. Please call the Information Line for up-to-date information on this meeting.

SUPPLEMENTARY INFORMATION: In the Federal Register of April 14, 2005, FDA announced that a meeting of the Drug Safety and Risk Management Advisory Committee would be held on May 18 and 19, 2005, from 8:30 a.m. to 5 p.m. On page 19763, in the third column, the Date and Time portion of the meeting notice is amended to read as follows:

Date and Time: The meeting will be held on May 18 and 19, 2005, from 8 a.m. to 5 p.m.

This notice is issued under the Federal Advisory Committee Act (5 U.S.C. app. 2) and 21 CFR part 14, relating to the advisory committees.

Dated: May 3, 2005.
Lester M. Crawford,
Acting Commissioner of Food and Drugs.

[FR Doc. 05-9228 Filed 5-6-05; 8:45 am]

BILLING CODE 4160-01-S